FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201143-020.

Agreement Name: West Coast MTO Agreement.

Parties: APM Terminals Pacific LLC; Fenix Marine Services, Ltd.; Everport Terminal Services, Inc.; International Transportation Service, LLC; LBCT LLC dba Long Beach Container Terminal LLC; Total Terminals International, LLC; West Basin Container Terminal LLC; Pacific Maritime Services, LLC; SSAT (Pier A), LLC; Trapac LLC; Yusen Terminals LLC; and SSA Terminals, LLC.

Filing Party: Wayne Rohde; Cozen O'Connor.

Synopsis: The amendment adds a new Article XII to the Agreement that temporarily suspends the flat fee currently provided for in the Agreement through January 31, 2022 and provides for the collection of a different Traffic Mitigation Fee only between the hours of 7:00 a.m. and 5:59 p.m. during that period. The parties have requested expedited review.

Proposed Effective Date: 12/23/2021

Location: https://www2.fmc.gov/FMC.Agreements.Web/Public/AgreementHistory/2090.

Editorial note: This document was received for publication by the Office of the Federal Register on November 8, 2021.

Dated: March 4, 2021.
Rachel E. Dickon,
Secretary.

[FR Doc. 2021-24758 Filed 11-12-21; 8:45 am]

BILLING CODE 6730-02-P